FEDERAL COMMUNICATIONS COMMISSION

[DA 04-2071]

Wireless Telecommunications Bureau Extends the Freeze on High Power Use of the 460-470 MHz Band Offset Channels

AGENCY: Federal Communications Commission.

ACTION: Notice.

SUMMARY: This document informs that the freeze on the filing of applications for high power operations on 12.5 kHz offset channels in the private land mobile radio (PLMR) 460-470 MHz band will remain in effect until December 31, 2005. The Bureau is extending the duration of the freeze to provide hospitals and other health care providers that operate medical telemetry equipment in the 460-470 MHz band adequate time to migrate to spectrum dedicated to the Wireless Medical Telemetry Service (“WMTS”), while providing PLMR users a date certain by which the freeze will end. The Bureau does not anticipate any further extensions of the December 31, 2005 deadline.

DATES: Effective July 8, 2004.

FOR FURTHER INFORMATION CONTACT: Freda Lippert Thyden, freda.thyden@fcc.gov, Public Safety & Critical Infrastructure Division, Wireless Telecommunications Bureau, (202) 418-0627, or TTY (202) 418-7233.

SUPPLEMENTARY INFORMATION: This is a summary of a Public Notice released on July 8, 2004.

1. The Commission, in 1995, adopted a new, more efficient channel plan for PLMR services in the 450-470 MHz band. Under the channel plan adopted, channels in the 450-470 MHz band that were 12.5 kHz removed from regularly-assignable channels at that time (“12.5 kHz offset channels”) would be available for high power operations. Previously, medical telemetry systems used these “offsets” on a secondary, noninterference basis to primary adjacent channel PLMR operations. Recognizing that co-channel, high power operations could result in interference to medical telemetry operations, the Bureau froze the filing of applications for high power operations on offset channels in the 450-470 MHz band pending resolution of the medical telemetry issues.

2. In June 2000, the Commission established the Wireless Medical Telemetry Service (WMTS), an action aimed at ensuring that in-hospital medical telemetry devices can operate free of harmful interference. In establishing the WMTS, the Commission allotted a total of 13.5 megahertz of spectrum on a primary basis in three blocks (608-614 MHz, 1395-1400 MHz, and 1427-1429.5 MHz). Also, the Commission determined that WMTS operations should be licensed by rule in lieu of individual licensing. Based on this decision, the Commission further decided that there was a need to establish some mechanism to track the usage of WMTS transmitters. In this regard, the Commission concluded that this information should be maintained in a database by one or more private sector frequency coordinators to be designated by the Bureau. Prior to operation, health care providers must register all medical telemetry devices operating on WMTS spectrum. In addition, the Commission encouraged hospitals to migrate their medical telemetry operations from the 460-470 MHz band to the new WMTS bands. To accommodate this migration, the Commission stated its intention to lift the freeze on applications for high power use of offset channels in the 460-470 MHz band within three years of the effective date of the WMTS rules.

3. On September 23, 2003, however, the American Hospital Association (AHA) reported that, based on its recent, informal polling of hospitals, there has been virtually no migration of medical telemetry systems to the WMTS frequencies. AHA noted that high power use in the 460-470 MHz band has the potential to interfere with existing medical telemetry systems that have not moved to the WMTS frequencies. AHA also recognized that the land mobile radio community is eager to obtain the full utilization of this band. In this connection, AHA stated that “no one will benefit if widespread interference to medical telemetry services results from the premature use of this band by higher-powered land mobile systems.” To address this matter, AHA asked that the freeze not be lifted and proposed a thirty-month plan for the transition of medical telemetry operations to the WMTS spectrum. In a Public Notice released October 15, 2003, the Bureau announced it was extending the freeze for a period of up to 180 days and sought comment on the AHA proposal. The Land Mobile Communications Council (LMCC), an umbrella organization representing the PLMR community that includes as members all Part 90 frequency coordinators, opposed the AHA proposal.

4. The Bureau has been working with AHA and the American Society for Health Care Engineering (ASHE), representing health care provider interests, and LMCC, representing the interests of the PLMR community, to develop a plan to allow for the orderly transition of high power operations on 12.5 kHz offset channels in the PLMR 460-470 MHz band. The Bureau also has been coordinating with representatives of the U.S. Food and Drug Administration (FDA) on this matter to ensure that medical telemetry communications, particularly those of a critical nature, are not adversely affected during such transition. In this regard, the Bureau has extended the current freeze on previous occasions in an effort to develop a transition plan and process which equitably balanced the interests of the identified stakeholders and resulted in minimum disruption to current operations in the 460-470 MHz band. After months of discussions coordinated with the Bureau, AHA and LMCC, by consensus, developed an approach whereby the current freeze would remain in effect through December 31, 2005.

5. AHA and LMCC believe, on balance, that the public interest would be best served by maintaining the current freeze until December 31, 2005, rather than lifting it at some earlier time. This approach provides a date certain by which all medical telemetry operations in the 460-470 MHz band can either transition to the WMTS spectrum or obtain interference protection by becoming licensed on the same basis as other part 90 operations. It also provides sufficient time to permit effective planning for an orderly and efficient transition so as to avoid disruption to ongoing medical telemetry operations. In addition, it provides a mechanism to continue to protect medical telemetry operations from harmful interference pending their transition to WMTS spectrum or part 90 licensing.

6. Given this extended transition, the parties have agreed to work with both the FCC and the FDA to provide impetus for the migration of hospitals from the 460 MHz band to the new WMTS bands. To further assist health care facilities still operating low-powered telemetry systems in the 460-470 MHz band in their transition to the WMTS spectrum or to fully licensed status, ASHE has created a registration process that will allow such hospitals and health care facilities to register information about their current use with ASHE. This registration program will allow AHA and ASHE to compile a more accurate database of the number, location and frequency being used by hospitals operating in the 460-470 MHz band, which will, in turn allow AHA, ASHE, the FDA and the Bureau to track the progress of the migration of medical telemetry devices out of the 460-470 MHz band, assist hospitals with problems in migration, and communicate with the affected hospitals regarding the regulatory impact of the lifting of the freeze on December 31, 2005. We take this opportunity to remind operators of WMTS equipment that to be licensed as required by the Commission's rules, they must register their equipment and frequencies with ASHE prior to operation. See 47 CFR 95.1111.

7. The decision to extend the freeze is procedural in nature and therefore not subject to the notice and comment and effective date requirements of the Administrative Procedure Act. Moreover, there is good cause for not using notice and comment procedures in this case, or making the freeze extension effective 30 days after publication in the Federal Register. We find that such procedures would be impractical, unnecessary and contrary to the public interest as our compliance would undermine the public policy rationale of the freeze in the first place.

This action is authorized under Sections 4(i), 4(j), and 303(r) of the Communications Act of 1934, as amended, 47 U.S.C. 154(i), 154(j), 303(r), and is taken under delegated authority pursuant to §§ 0.131 and 0.331 of the Commission's Rules, 47 CFR 0.131, 0.331.

Federal Communications Commission.
Ramona Melson,
Associate Chief, Public Safety and Critical Infrastructure Division, WTB.

[FR Doc. 04-17076 Filed 7-26-04; 8:45 am]

BILLING CODE 6712-01-P